DEPARTMENT OF COMMERCE

International Trade Administration

A-570-504

Notice of Rescission of Antidumping Duty Administrative Review: Petroleum Wax Candles from the People's Republic of China

AGENCY: Import Administration, International Trade Administration, Department of Commerce.

SUMMARY: In response to a request by Shanghai R&R Import Export Company Limited (“Shanghai R&R”), an exporter of subject merchandise, the Department of Commerce (the “Department”) initiated an administrative review of the antidumping duty order on petroleum wax candles (“candles”) from the People's Republic of China (“PRC”). No other interested party requested a review of Shanghai R&R. The period of review (“POR”) is August 1, 2003, through July 31, 2004. For the reasons discussed below, the Department is rescinding this administrative review.

EFFECTIVE DATE: June 9, 2005.

FOR FURTHER INFORMATION CONTACT: Paul Walker, AD/CVD Operations, Office 9, Import Administration, International Trade Administration, U.S. Department of Commerce, 14th Street and Constitution Avenue, NW, Washington, D.C. 20230; telephone: (202) 482-0413.

SUPPLEMENTARY INFORMATION: On August 3, 2004, the Department published an opportunity to request a review of the antidumping duty order on candles from the PRC. See Notice of Opportunity to Request an Administrative Review, 69 FR 46496 (August 3, 2004). Shanghai R&R and Shangyu City Garden Candle Factory (“Garden Candle”) made timely requests for an administrative review. On September 22, 2004, the Department initiated the 6th review of candles from the PRC. See Initiation of Antidumping and Countervailing Duty Administrative Reviews and Requests for Revocation in Part (“Initiation”), 69 FR 56745 (September 22, 2004).

On February 1, 2005, Garden Candle withdrew from the instant administrative review of candles from the PRC. On March 30, 2004, the Department rescinded the administrative review of Garden Candle. See Petroleum Wax Candles from the People's Republic of China: Rescission, in Part, of Antidumping Duty Administrative Review, 70 FR 16217 (March 30, 2005).

On May 16, 2005, Shanghai R&R submitted its request for withdrawal from the administrative review.

Rescission of Review

If a party that requested a review withdraws its request within 90 days of the date of publication of the notice of initiation of the requested review, the Secretary will rescind the review pursuant to 19 CFR 351.213(d)(1) of the Department's regulations. However, the Secretary may extend this time limit if the Secretary decides that it is reasonable to do so. The Department finds that it is reasonable to extend the time limit by which a party may withdraw its request for review in the instant proceeding. The Department has not yet devoted considerable time and resources to this review, and the Department concludes that the withdrawal does not constitute an abuse of our procedures by the involved party. Therefore, given that the only respondent has withdrawn from, and thereby is no longer participating in the instant review, the Department is rescinding this administrative review of the antidumping duty order on candles from the PRC.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (“APO”) of their responsibility concerning the disposition of proprietary information disclosed under APO in accordance with 19 CFR 351.305(a)(3) of the Department's regulations. Timely written notification of the return/destruction of APO materials or conversion to judicial protective order is hereby requested. Failure to comply with the regulations and the terms of an APO is a sanctionable violation.

This notice is in accordance with section 777(i)(1) of the Tariff Act of 1930, as amended, and 19 CFR 351.213(d)(4) of the Department's regulations.

Dated: May 31, 2005.
Susan H. Kuhbach,
Acting Deputy Assistant Secretary for Import Administration.

[FR Doc. E5-2983 Filed 6-8-05; 8:45 am]

BILLING CODE 3510-DS-S